DEPARTMENT OF DEFENSE

Department of the Air Force

Notice of 2023 Out-of-Cycle Public Interface Control Working Group for Navstar GPS Public Documents

AGENCY: Department of the Air Force, Department of Defense.

ACTION: Meeting notice.

SUMMARY: This notice informs the public that the Space Systems Command, Military Communications & Positioning, Navigation, Timing Directorate will host an out-of-cycle 2023 Public Interface Control Working Group on June 7, 2023. The working group will review proposed changes to NAVSTAR GPS public document ICD-GPS-870 (Control Segment (OCX) to User Support Interface), as well as familiarize GPS users with new GPS (XML based) data products and a conversion tool associated with the upcoming fielding of the Next Generation Operational Control System (OCX). Additional details can be found below.

DATES: Open to the public Wednesday, June 7, 2023, from 08:30 a.m. to 12:30 p.m. (Pacific Time).

ADDRESSES: This virtual meeting can be accessed via the following dial-in numbers and links:

Primary Dial In: +1 (571) 200-1700, Meeting ID: 161 531 3774#, Passcode: 771952#.

Primary Screen Share URL: https://saicwebconferencing.zoomgov.com/j/1615313774.

Backup Dial In: +1 (410) 874-6740, Meeting ID: 614 293 598#.

Backup Screen Share URL: https://dod.teams.microsoft.us/l/meetup-join/19%3adod%3ameeting_32e070b7f0624011a1457fdf1f9daad8%40thread.v2/0?context=%7b%22Tid%22%3a%228331b18d-2d87-48ef-a35f-ac8818ebf9b4%22%2c%22Oid%22%3a%2221883ab7-1eb2-4341-a69f-55e4192694f8%22%7d.

FOR FURTHER INFORMATION CONTACT: Please email SSC.CGEP.workflow@us.af.mil and/or contact Captain Andrew Sweeten at 310-653-9603 or Mr. Daniel Godwin at 310-653-2329.

SUPPLEMENTARY INFORMATION: The purpose of this meeting is to update the public on proposed GPS public document changes, collect issues/comments for analysis and adjudicate subject comments for possible incorporation into future GPS public document revisions. When OCX is fielded, the current (5) plain text data products (as defined in ICD-GPS-240) will be replaced by (4) XML based data products. These products include the GPS Advisory, GPS Advisory Collection, Ops Status, and the Public Common Almanac. The subject meeting will also present a conversion tool and other information necessary for GPS users to access the new product formats and ensure backwards compatibility. The out-of-cycle 2023 Public Interface Control Working Group is open to the general public.

Comments to the proposed changes will be collected, catalogued, and adjudicated for potential inclusion. If accepted, these changes will be processed through the government change management process for ICD-GPS-870. All comments must be submitted in a Comments Resolution Matrix. This form along with the proposed change notices, public document baseline documents and the official meeting notice are posted at: https://www.gps.gov/technical/icwg/meetings/2023/06/.

Please submit comments to the Space Systems Command GPS Requirements Section (SSC/CGEPR) workflow at SSC.CGEP.workflow@us.af.mil by April 12, 2023. For those who would like to attend and participate, we request that you register no later than May 10, 2023. Please send the registration information to SSC.CGEP.workflow@us.af.mil, providing your name, organization, telephone number, email address, and country of citizenship. Backup dial-in & screen share website will only be used in case of primary system technical difficulties.

Tommy W. Lee,
Acting Air Force Federal Register Liaison Officer.

[FR Doc. 2023-06891 Filed 4-3-23; 8:45 am]

BILLING CODE 5001-10-P